DEPARTMENT OF TRANSPORTATION

Federal Motor Carrier Safety Administration

Withdrawal of Regulatory Guidance Concerning the Federal Motor Carrier Safety Regulations

AGENCY: Federal Motor Carrier Safety Administration (FMCSA), DOT.

ACTION: Notice; withdrawal of regulatory guidance.

SUMMARY: FMCSA announces the withdrawal of a number of items of regulatory guidance concerning the Federal Motor Carrier Safety Regulations (FMCSRs) that are now obsolete as a result of rules published by FMCSA and found in 49 CFR part 393, “Parts and accessories necessary for safe operation.” All prior interpretations and regulatory guidance concerning the applicability of the obsolete FMCSRs that were published in the Federal Register, as well as memoranda and letters concerning those regulations, may no longer be relied upon as authoritative if they are inconsistent with the revised and/or amended regulations.

DATES: Effective Date: This regulatory guidance is effective on June 4, 2010.

FOR FURTHER INFORMATION CONTACT: Ms. Deborah M. Freund, Vehicle and Roadside Operations Division, Office of Bus and Truck Standards and Operations, (202) 366-5370, Federal Motor Carrier Safety Administration, 1200 New Jersey Ave., SE., Washington, DC 20590-0001.

SUPPLEMENTARY INFORMATION:

Legal Basis

The Motor Carrier Safety Act of 1984 (Pub. L. 98-554, Title II, 98 Stat. 2832, October 30, 1984) (the 1984 Act) provides authority to regulate drivers, motor carriers, and vehicle equipment. It requires the Secretary of Transportation (Secretary) to prescribe regulations on minimum safety standards for commercial motor vehicle (CMV) safety. At a minimum, the regulations shall ensure that: (1) CMVs are maintained, equipped, loaded, and operated safely; (2) the responsibilities imposed on operators of CMVs do not impair their ability to operate the vehicles safely; (3) the physical condition of operators of CMVs is adequate to enable them to operate the vehicles safely; and (4) the operation of CMVs does not have a deleterious effect on the physical condition of the operators (49 U.S.C. 31136(a)). Section 211 of the 1984 Act also grants the Secretary broad power, in carrying out motor carrier safety statutes and regulations, to “prescribe recordkeeping and reporting requirements” and to “perform other acts the Secretary considers appropriate” (49 U.S.C. 31133(a)(8) and (10)). The FMCSA Administrator has been delegated authority under 49 CFR 1.73(g) to carry out the functions vested in the Secretary by 49 U.S.C. chapter 311, subchapters I and III, relating to CMV programs and safety regulation.

Members of the motor carrier industry and other interested parties may access FMCSA's guidance through FMCSA's Internet site at http://www.fmcsa.dot.gov. Specific questions addressing any of the interpretive material withdrawn in this document should be directed to the contact person listed earlier under FOR FURTHER INFORMATION CONTACT, or to the FMCSA Division Office in each State.

Basis for the Notice

On February 12, 2008, the Commercial Vehicle Safety Alliance (CVSA) petitioned FMCSA to withdraw certain regulatory guidance concerning 49 CFR part 393. The regulatory guidance that was the subject of the petition had been made obsolete by final rules concerning (1) protection against shifting and falling cargo, and (2) general amendments to Part 393 of the FMCSRs.

For the reasons set forth below, FMCSA granted the CVSA's petition on July 9, 2009:

Protection Against Shifting and Falling Cargo

FMCSA published a final rule on September 27, 2002 (67 FR 61212), revising the regulations in 49 CFR part 393 concerning protection against shifting and falling cargo for CMVs engaged in interstate commerce. The previous cargo securement regulations required all cargo-carrying CMVs to be equipped with devices that provided protection against shifting or falling cargo and that met the requirements of one of four “options” (Options A, B, C, or D). The September 2002 cargo securement final rule replaced Options A through D with: (1) More comprehensive, performance-based, general requirements; and (2) detailed requirements for a number of specific commodities, the proper securement of which generated the most disagreement between industry and enforcement agencies. Because Options A through D are no longer a part of the cargo securement regulations, the regulatory guidance provided in questions 2, 5, and 6 to section 393.100 (reference 62 FR 16419, dated April 4, 1997) is no longer valid and is hereby withdrawn.

General Amendments to Part 393

FMCSA published a final rule on August 15, 2005 (70 FR 48008), amending part 393 of the FMCSRs. As part of this rule, FMCSA clarified that CMVs must have both windshield wiping and windshield washing systems that meet the requirements of Federal Motor Vehicle Safety Standard No. 104, “Windshield wiping and washing systems.” As such, the regulatory guidance provided in question 1 to section 393.78 (reference 62 FR 16418, dated April 4, 1997) is no longer valid and is hereby withdrawn.

FMCSA further clarified that the requirements of section 393.201 apply to all CMVs, including trailers, and not only buses, trucks, and truck tractors. As such, the regulatory guidance provided in question 2 to section 393.201 (reference 62 FR 16419, dated April 4, 1997) is no longer valid and is hereby withdrawn.

FMCSA also revised section 393.201(d) to make the regulation more practical. Paragraph (d) was intended to prohibit welding on vehicle frames constructed of certain types of steel that are weakened by the welding process. However, the previous wording was overly restrictive. To address this issue, paragraph (d) now allows welding which is performed in accordance with the vehicle manufacturer's recommendations, and therefore, the regulatory guidance provided in question 3 to section 393.201 is now redundant, no longer necessary, and hereby withdrawn.

Decision

For the reasons presented above, FMCSA removes the following regulatory guidance: Section 393.78, question 1; section 393.100, questions 2, 5, and 6; and section 393.201, questions 2 and 3, published online at http://www.fmcsa.dot.gov/rules-regulations/administration/fmcsr/FmcsrGuideDetails.aspx?menukey=393.

Issued on: May 26, 2010.
Anne S. Ferro,
Administrator.

[FR Doc. 2010-13401 Filed 6-3-10; 8:45 am]

BILLING CODE 4910-EX-P